DEPARTMENT OF AGRICULTURE

Agricultural Marketing Service

[Doc. No. AMS-FV-13-0060]

Notice of Request for Extension of a Currently Approved Information Collection

AGENCY: Agricultural Marketing Service, USDA.

ACTION: Notice and request for comments.

SUMMARY: In accordance with the Paperwork Reduction Act of 1995, this notice announces that the Agricultural Marketing Service (AMS) is requesting approval from the Office of Management and Budget for revision to and extension of the information collection titled USDA Food Connect Web site.

DATES: Comments received by November 4, 2013 will be considered.

Additional Information or Comments: Contact Debra Eisenbarth, Standardization Branch, Specialty Crops Inspection Division, Fruit and Vegetable Program, Agricultural Marketing Service, U.S. Department of Agriculture, STOP 0247, 1400 Independence Avenue SW., Washington, DC 20250-0247, telephone: (202) 720-1941 and fax: (202) 690-1527; or Internet via http://www.regulations.gov. All comments should reference the document number, date, and page number of this issue of the Federal Register. All comments will be posted without change, including any personal information provided. All comments submitted in response to this notice will be included in the record and will be made available to the public on the Internet via http://www.regulations.gov.

SUPPLEMENTARY INFORMATION:

Title: USDA Food Connect Web site.

OMB Number: 0581-0224.

Expiration Date of Approval: January 10, 2014.

Type of Request: Extension of a Currently Approved Information Collection.

Abstract: The information collection requirements in this request are necessary for the operation of the U.S. Department of Agriculture (USDA) Food Connect Web site, which operates pursuant to the authority of Section 32 of Public Law 74-320, 7 U.S.C. 612c, AMS administers the USDA Food Connect Web site, which supports our mission of facilitating the efficient and fair marketing of U.S. agricultural products. Registering to participate on, or use, the USDA Food Connect Web site is voluntary.

The USDA Food Connect Web site provides a neutral, web-based resource where food processors and distributors can register their nutritious, value-added foods for institutional food service professionals to choose the products they require. Brokers can also list food processors and regions they represent on the Web site along with information about food associations.

The National School Lunch Program is a federally assisted meal program operating in more than 100,000 public and non-profit private schools and residential childcare institutions. The program provides nutritionally balanced, low-cost or free lunches to more than 30.5 million children each school day. In 1998, Congress expanded the National School Lunch Program to include reimbursement for snacks served to children up to 18 years of age in after-school educational and enrichment programs. The USDA Food Connect Web site was developed to help schools find the most nutritious, value-added foods purchased by the Federal Government, as well as commercial product available for purchase directly from processors.

Institutional food service professionals (public and private schools) who choose to register on the USDA Food Connect Web site provide the following information: The registrant's name, position, email address, telephone number, and the school/organization name and address. Information provided by institutional food service professionals helps processors and brokers view the school/organization's meal-serving information.

Processors who choose to register on the USDA Food Connect Web site provide the following information: Confirmation that the company is eligible to participate in Federal procurement; the registrant's name, position, email address, telephone number, company name, address, and country; and whether they are a national or regional processor. Processor information helps institutional food service professionals locate processors and distributors that handle food products for purchase.

Brokers who choose to register on the USDA Food Connect Web site provide the following information: The registrant's name, position, email address, and telephone number; the brokerage company name, address, and country; and the States they serve. The information provided by brokers allows institutional food service professionals to know which manufacturers the broker represents, which States the broker serves, and contacts at the brokerage firm.

Food related associations who choose to register on the USDA Food Connect Web site provide the following information: The association's name, address, city, state, zip code, country, email address, and telephone number; and, a description of association services.

All registrants on the USDA Food Connect Web site use the USDA eAuthentication Web site to register (OMB No. 0503-0014). Each new user must create their own login identification and password that meet eAuthentication requirements.

The USDA Food Connect Web site has undergone several changes since this information collection was approved on January 10, 2010. The database upload function was disabled because the function was not working properly. Processors used this upload function to input their products via electronic transfer. Also, new allergen information was provided. At the request of food service professionals, we added data fields for eight common allergens in foods: Milk, fish, wheat, crustacean shellfish, egg, peanuts, tree nuts, and soybean in foods. If the product does not contain these allergens, the processor must indicate this in the provided data field. This required an additional minute to complete the forms for each product submission. In addition, the Web site was enhanced to allow processors to indicate if their products meet any of the following “Special Product Types” criteria: Kosher, Organic, Whole Grain, Vegan, and Vegetarian (no meat). Five data fields were added for this information that added one minute to the form completion time for each product submission. Food Connect was also changed so processors may enter the Child Nutrition (CN) label number for CN-labeled products. The USDA, CN Labeling Program provides food manufacturers the option to include a standardized food crediting statement on their product label. Labels must be authorized by USDA's Food and Nutrition Service (FNS) prior to use, and manufacturers must have quality control procedures and inspection oversight that meet FNS requirements. Products produced in accordance with the CN Labeling Program are generally purchased by foodservice providers for FNS meal programs. One data field was added for the CN label number and resulted in an additional half-minute to complete the forms for each product submission.

In 2012, based upon the California Department of Education, AMS launched a modified USDA Food Connect Web site that included an enhanced link to the portal, titled “CA Competitive Foods,” that is viewable only by California schools. California has two sets of nutrition standards for competitive foods and beverages based on grade level: One for elementary schools and one for middle and high schools. The Web site enhancements allow California schools to select either one or both standards based on the type of school, and to find products that meet California's nutrition standards for competitive foods and beverages. The California portal adds a half-minute and two data fields for processors and distributors who want to sell their products in California, allowing them to identify their products as meeting the State's competitive foods laws.

Estimating Burden: The estimated total burden for revision of a currently approved information collection for the USDA Food Connect Web site once USDA eAuthentication Web site registration is completed is as follows:

Estimate of Burden: Public reporting burden for this collection of information is estimated to average 0.15 hours per response.

Respondents: Institutional food service professionals (public and private schools), processors, distributors, brokers, and associations.

Estimated Number of Respondents: 1,215 (620 institutional food service professionals, 430 processors, no distributors, 107 brokers, and 58 associations).

Estimated Number of Responses: 1907.

Estimated Number of Responses per Respondent: 1.57.

Estimated Total Annual Burden on Respondents: 297 hours.

A new option for California portal is being submitted with this collection.

(1) Processors add a new product registration submission to the California portal for products that are compliant with California Competitive Food and Beverage Standards (A Single Product). Processors use this registration submission to register their products manufactured from USDA supplied commodities and their commercial food products that meet the California Competitive Food and Beverage Standards, on the USDA Food Connect Web site using this method. Processors may select either one or both nutrition standards based on the type of school to indicate that a product meets one or both of the California Competitive Food and Beverage Standards.

Estimate of Burden: Public reporting burden for this collection of information is estimated to average 0.008 hours per response.

Respondents: Processors.

Estimated Number of Respondents: 9.

Estimated Number of Responses: 135.

Estimated Number of Responses per Respondent: 15. Each respondent completes this submission once for each product they register.

Estimated Total Annual Burden on Respondents: 1.08 hours.

(2) Processors add a new product registration submission to the California portal for products that are compliant with California Competitive Food and Beverage Standards (Excel spreadsheet). Processors use this registration submission to register their products manufactured from USDA supplied commodities and their commercial food products that meet the California Competitive Food and Beverage Standards, on the USDA Food Connect Web site using this method. Processors may select either one or both nutrition standards based on the type of school to indicate that a product meets the one or both of the California Competitive Food and Beverage Standards.

Estimate of Burden: Public reporting burden for this collection of information is estimated to average 0.008 hours per response.

Respondents: Processors.

Estimated Number of Respondents: 10.

Estimated Number of Responses: 150.

Estimated Number of Responses per Respondent: 15. Each respondent completes this submission once for each product they register.

Estimated Total Annual Burden on Respondents: 1.20 hours.

Comments: Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the information collection on those who are respond, including the use of appropriate automated, electronic, mechanical, or other technological collection techniques or other forms of information technology.

All responses to this notice will be summarized and included in the request for OMB approval. All comments will become a matter of public record.

Dated: August 27, 2013.
Rex A. Barnes,
Associate Administrator, Agricultural Marketing Service.

[FR Doc. 2013-21311 Filed 8-30-13; 8:45 am]

BILLING CODE 3410-02-P